DEPARTMENT OF COMMERCE

National Oceanic and Atmospheric Administration

RIN 0648-XA123

Marine Mammals; File No. 15616

AGENCY: National Marine Fisheries Service (NMFS), National Oceanic and Atmospheric Administration (NOAA), Commerce.

ACTION: Notice; receipt of application.

SUMMARY: Notice is hereby given that Craig Matkin, North Gulf Oceanic Society, Homer, AK, has applied in due form for a permit to conduct research on marine mammals.

DATES: Written, telefaxed, or e-mail comments must be received on or before February 4, 2011.

ADDRESSES: The application and related documents are available for review by selecting “Records Open for Public Comment” from the Features box on the Applications and Permits for Protected Species (APPS) home page, https://apps.nmfs.noaa.gov, and then selecting File No. 15616 from the list of available applications.

These documents are also available upon written request or by appointment in the following office(s):

Permits, Conservation and Education Division, Office of Protected Resources, NMFS, 1315 East-West Highway, Room 13705, Silver Spring, MD 20910; phone (301) 713-2289; fax (301) 713-0376; and

Alaska Region, NMFS, P.O. Box 21668, Juneau, AK 99802-1668; phone (907) 586-7221; fax (907) 586-7249.

Written comments on this application should be submitted to the Chief, Permits, Conservation and Education Division, at the address listed above. Comments may also be submitted by facsimile to (301) 713-0376, or by e-mail to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Tammy Adams or Kristy Beard, (301) 713-2289.

SUPPLEMENTARY INFORMATION: The subject permit is requested under the authority of the Marine Mammal Protection Act of 1972, as amended (MMPA; 16 U.S.C. 1361 et seq.), and the regulations governing the taking and importing of marine mammals (50 CFR part 216).

The applicant requests a five-year permit to study marine mammals in Alaskan waters, including southeast Alaska, Prince William Sound, the Kenai Peninsula, the Eastern Aleutian Islands, and the Bering Sea. The purpose of the research is to maintain a long-term killer whale (Orcinus orca) monitoring program in Alaskan waters that was initiated over 25 years ago. In addition, the permit holder would examine movements of other non-endangered cetacean species along the North Gulf Coast of Alaska in relation to U.S. Navy testing activities. The proposed research activities include photo-identification, passive acoustic recording, biopsy sampling, tagging with barbed darts and suction cups, and collecting samples of marine mammal carcasses from sites of killer whale predation.

The applicant requests to photoidentify and acoustically record (PI), biopsy sample (BS), attach barbed dart satellite tags (DT), and suction cup tags (ST) to the following cetacean species: killer whales (PI 2000, BS 100, DT 75, ST 75), gray whales (Eschrichtius robustus; PI 100, BS 8, DT 25), Baird's beaked whales (Berardius bairdii; PI 50, BS 8, DT 8), Cuvier's beaked whales (Ziphius cavirostris; PI 50, BS 8, DT 8), and Stejneger's beaked whales (Mesoplodon stejnegeri; PI 50, BS 8, DT 8). Prey remains would be collected from carcasses of the following species: 15 minke whales (Balaenoptera acutorostrata), 25 gray whale, 15 harbor porpoise (Phocoena phocoena), 15 Dall's porpoise (Phocoenoides dalli), 25 harbor seals (Phoca vitulina), 15 Pacific white-sided dolphins (Lagenorhynchus obliquidens), 25 northern fur seals (Callorhinus ursinus), 25 other “unidentified” cetaceans, and 25 other “unidentified” pinnipeds.

An initial determination has been made in compliance with the National Environmental Policy Act of 1969 (42 U.S.C. 4321 et seq.) that the activity proposed is categorically excluded from the requirement to prepare an environmental assessment or environmental impact statement.

Concurrent with the publication of this notice in the Federal Register, NMFS is forwarding copies of the application to the Marine Mammal Commission and its Committee of Scientific Advisors.

Dated: December 29, 2010.
P. Michael Payne,
Chief, Permits, Conservation and Education Division, Office of Protected Resources, National Marine Fisheries Service.

[FR Doc. 2010-33309 Filed 1-4-11; 8:45 am]

BILLING CODE 3510-22-P